DEPARTMENT OF TRANSPORTATION

Federal Highway Administration

Notice of Final Federal Agency Actions on Proposed Highway in Minnesota

AGENCY: Federal Highway Administration (FHWA), Department of Transportation (DOT).

ACTION: Notice of Limitation on Claims for Judicial Review of Actions by FHWA.

SUMMARY: This notice announces actions taken by the FHWA that are final within the meaning of 23 U.S.C. 139(l)(1). The actions relate to a proposed highway project, Trunk Highway (TH) 1/169 in the vicinity of Eagles Nest Lake from approximately 0.1 miles west of Sixmile Road to approximately 0.1 mile east of Bradach Road in the County of St. Louis, Minnesota. Those actions grant licenses, permits, and approvals for the project.

DATES: By this notice, the FHWA is advising the public of final agency actions subject to 23 U.S.C. 139(l)(1). A claim seeking judicial review of the Federal agency actions on the highway project will be barred unless the claim is filed on or before May 27, 2016. If the Federal law that authorizes judicial review of a claim provides a time period of less than 150 days for filing such claim, then that shorter time period still applies.

FOR FURTHER INFORMATION CONTACT: For FHWA: William Lohr, FHWA Minnesota Division Office, 380 Jackson Street, Suite 500, Saint Paul, MN 55101, telephone at 651-291-6100, or via email at william.lohr@dot.gov. Regular office hours are Monday through Friday, 8:00 a.m. to 4:00 p.m., c.t. For the Minnesota Department of Transportation (MnDOT): Michael Kalnbach, Project Manager, MnDOT District 1 Duluth, 1123 Mesaba Ave, Duluth, MN 55811, telephone 218-725-2700, email at michael.kalnbach@state.mn.us. Regular office hours are Monday through Friday, 8:00 a.m. to 4:00 p.m., c.t.

SUPPLEMENTARY INFORMATION: Notice is hereby given that FHWA has taken final agency actions subject to 23 U.S.C. 139(l)(1) by issuing licenses, permits, and approvals for the following highway project in the State of Minnesota: The proposed project will address deteriorating pavement conditions and provide safety improvements to a 5.7-mile long segment of TH 1/169 in the vicinity of Eagles Nest lake from approximately 0.1 mile west of Sixmile Road to approximately 0.1 mile east of Bradach Road in rural Saint Louis County, Minnesota. Approximately 3.5 miles of the roadway at the east end of the project will be reconstructed on or directly adjacent to the existing roadway alignment, while the western approximately 2.2 miles will be constructed on new alignment south of the existing roadway.

The actions by the agencies, and the laws under which such actions were taken, are described in the Environmental Assessment (EA) for the project, approved on December 11, 2014, in the FHWA Finding of No Significant Impact (FONSI) issued on November 3, 2015, and in other documents in the project records. The EA, FONSI, and other project records are available by contacting FHWA or the MnDOT at the addresses provided above. The Environmental Assessment (EA) can be viewed and downloaded from the project Web site at http://www.dot.state.mn.us/d1/projects/Hwy169eagles/EA-EAW.html, or obtained from any contact listed above. The FONSI may be obtained from any of the contacts listed above.

This notice applies to all Federal agency decisions that are final as of the issuance date of this notice and all laws under which such actions were taken, including but not limited to:

1. General: National Environmental Policy Act (NEPA) (42 U.S.C. 4321-4351); Federal-Aid Highway Act (23 U.S.C. 109 and 128).

2. Air: Clean Air Act (42 U.S.C. 7401-7671q).

3. Wildlife: Endangered Species Act (16 U.S.C. 1531-1544).

4. Historic and Cultural Resources: Section 106 of the National Historic Preservation Act of 1966, as amended (16 U.S.C. 470f); Archeological Resources Protection Act of 1977 (16 U.S.C. 470aa-470mm).

5. Wetlands and Water Resources: Clean Water Act (Sections 319, 401, and 404 (33 U.S.C. 1251-1387); Rivers and Harbors Act of 1899 (33 U.S.C. 401-406); Wetlands Mitigation (23 U.S.C. 119(g) and 133(b)(14)).

6. Executive Orders (E.O.): E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; and E.O. 13112 Invasive Species.

(Catalog of Federal Domestic Assistance Program Number 20.205, Highway Planning and Construction. The regulations implementing Executive Order 12372 regarding intergovernmental consultation on Federal programs and activities apply to this program.)

Authority: 23 U.S.C. 139 (l)(1)

Issued on: December 16, 2015.
David J. Scott,
Assistant Division Administrator, FHWA, Saint Paul, Minnesota.

[FR Doc. 2015-32520 Filed 12-28-15; 8:45 am]

BILLING CODE 4910-RY-P